DEPARTMENT OF COMMERCE

Foreign-Trade Zones Board

[Docket 15-2006]

Foreign-Trade Zone 144—Brunswick, GA; Application For Foreign-Trade Subzone Status; E.I. du Pont de Nemours and Company, Inc. (Crop Protection Products); Valdosta, GA Area

An application has been submitted to the Foreign-Trade Zones Board (the Board) by Brunswick Foreign-Trade Zone, Inc., grantee of FTZ 144, requesting special-purpose subzone status for the manufacturing facilities (crop protection products) of E.I. du Pont de Nemours and Company, Inc. (DuPont), located in the Valdosta, Georgia area. The application was submitted pursuant to the Foreign-Trade Zones Act, as amended (19 U.S.C. 81a-81u), and the regulations of the Board (15 CFR part 400). It was formally filed on April 27, 2006.

The facilities for which subzone status is proposed are located at three sites in the Valdosta, Georgia area (223.68 acres total; up to 516,253 sq. ft. of enclosed space): Site # 1 (220 acres; 156,253 sq. ft. of enclosed space with possibility of creation of additional 200,000 sq. ft.) located at 2509 Rocky Ford Road in Lowndes County, Georgia; Site # 2 (2.3 acres; 100,000 sq. ft. of enclosed space) located at 1560 Old Clyattsville Road in Valdosta; and Site # 3 (1.38 acres; 60,000 sq. ft. of enclosed space) located at 1653 and 1669 Clay Road in Valdosta.

DuPont is seeking subzone authority to manufacture, test, package and warehouse crop protection products. The company initially plans to manufacture certain fungicides (Manex), herbicides (Direx FP), plant growth regulators (CottonQuik), and insecticides (Avaunt/Steward) under FTZ procedures using imported “technical” ingredients. Duty rates on the finished products range from duty-free to 6.5% ad valorem while duty rates on the ingredients range from 3.7% to 6.5%. The application also requests authority to include a broad range of inputs, primarily categorized as organic chemicals, for potential future use in manufacture of finished crop protection products. (New major activity in these inputs/products would require review by the FTZ Board.) Duty rates for the potential input-material categories range from duty-free to 7.2% ad valorem while the potential finished products have duty rates ranging from duty-free to 6.5%.

Zone procedures would exempt DuPont from Customs duty payments on foreign inputs used in export production. On its domestic shipments, DuPont could apply to foreign inputs lower duty rates that apply to the finished products, where applicable, and would also be able to defer duty payments. DuPont would be able to avoid duty on foreign inputs which become scrap/waste, estimated at less than one percent of imported inputs. The application also indicates that the company will derive savings from simplification and expediting of the company's import and export procedures and from transfer of foreign-status merchandise to other FTZs or subzones. All of the above-cited savings from zone procedures could help improve the plant's international competitiveness.

In accordance with the Board's regulations, a member of the FTZ Staff has been designated examiner to investigate the application and report to the Board.

Public comment is invited from interested parties. Submissions (original and 3 copies) shall be addressed to the Board's Executive Secretary at the address below. The closing period for their receipt is July 3, 2006. Rebuttal comments in response to material submitted during the foregoing period may be submitted during the subsequent 15-day period to July 18, 2006.

A copy of the application and accompanying exhibits will be available for public inspection at each of the following locations:

U.S. Department of Commerce Export Assistance Center, 325 John Knox Road, The Atrium Building, Suite 201, Tallahassee, FL 32303.

Office of the Executive Secretary, Foreign-Trade Zones Board, U.S. Department of Commerce, Room 1115, 1401 Constitution Ave., NW., Washington, DC 20230.

Dated: April 27, 2006.
Dennis Puccinelli,
Executive Secretary.

[FR Doc. E6-6764 Filed 5-3-06; 8:45 am]

BILLING CODE 3510-DS-P